Title 3—

The President

Proclamation 10232 of July 15, 2021

National Atomic Veterans Day, 2021

By the President of the United States of America

A Proclamation

On July 16, 1945, the United States detonated the world's first nuclear device in Alamogordo, New Mexico. Better known by its code name, “Trinity,” the successful test of the first atomic bomb brought forth a new age of science that changed the lives of many of those who served in our Armed Forces, and forever altered the nature and the risks of war. Just weeks later, the world witnessed the horrors of nuclear destruction at Hiroshima and Nagasaki, which marked the end of World War II but opened our eyes to the truth that a nuclear war must never be fought.

Many brave men and women have risked their lives in service to our Nation, but few know the story of our “Atomic Veterans”—American military service members who participated in nuclear tests between 1945 and 1962, served with United States military forces in or around Hiroshima and Nagasaki through mid-1946, or were held as prisoners of war in or near Hiroshima or Nagasaki. These veterans served at testing sites like the Bikini Atoll and witnessed the destructive power of nuclear weapons firsthand. On National Atomic Veterans Day, we recognize and honor the contributions of America's Atomic Veterans for their sacrifice and dedication to our Nation's security, and recommit to supporting our Atomic Veterans and educating ourselves on the role these patriots played in our national story.

Atomic Veterans served our Nation with distinction, but their service came at a great cost. Many developed health conditions due to radiation exposure, yet because they were not able to discuss the nature of their service, they were unable to seek medical care or disability compensation from the Department of Veterans Affairs for their illnesses. Decades later in 1996, the United States Congress repealed the Nuclear Radiation and Secrecy Agreements Act, allowing Atomic Veterans to tell their stories and file for benefits. By then, thousands of Atomic Veterans had died without their families knowing the true extent of their service.

Our Nation has one truly sacred obligation: to properly prepare and equip our troops when we send them into harm's way, and to care for them and their families when they return from service. As Commander in Chief, I am committed to fulfilling our obligation to the Atomic Veterans and their families, and ensuring that all of our Nation's veterans have timely access to needed services, medical care, and benefits.

On this National Atomic Veterans Day, our country remembers the service and sacrifices of Atomic Veterans. Their heroism and patriotism will never be forgotten and we always honor their bravery and devotion to duty.

NOW, THEREFORE, I, JOSEPH R. BIDEN JR., President of the United States of America, by virtue of the authority vested in me by the Constitution and the laws of the United States, do hereby proclaim July 16, 2021, as National Atomic Veterans Day. I call upon all Americans to observe this day with appropriate ceremonies and activities that honor our Nation's Atomic Veterans whose brave service and sacrifice played an important role in the defense of our Nation.

IN WITNESS WHEREOF, I have hereunto set my hand this fifteenth day of July, in the year of our Lord two thousand twenty-one, and of the Independence of the United States of America the two hundred and forty-sixth.

[FR Doc. 2021-15520

Filed 7-19-21; 8:45 am]

Billing code 3295-F1-P